DEPARTMENT OF ENERGY

Federal Energy Regulatory Commission

Combined Notice of Filings #1

Take notice that the Commission received the following electric corporate filings:

Docket Numbers: EC13-71-000.

Applicants: KEF Equity Investment Corp.

Description: Application of KEF Equity Investment Corp. for Authorization of Disposition of Jurisdictional Facilities Under Section 203 of the Federal Power Act, Request for Expedited Consideration, Waivers and Confidential Treatment.

Filed Date: 2/6/13.

Accession Number: 20130206-5103.

Comments Due: 5 p.m. ET 2/27/13.

Take notice that the Commission received the following electric rate filings:

Docket Numbers: ER13-675-001.

Applicants: Catalina Solar, LLC.

Description: Amendment to MBR Compliance Filing to Update Citation to be effective 11/15/2012.

Filed Date: 2/6/13.

Accession Number: 20130206-5096.

Comments Due: 5 p.m. ET 2/27/13.

Docket Numbers: ER13-677-001.

Applicants: Shiloh IV Lessee, LLC.

Description: Shiloh IV Lessee, LLC submits Amendment to MBR Compliance Filing to Update Citation to be effective 12/15/2012.

Filed Date: 2/6/13.

Accession Number: 20130206-5097.

Comments Due: 5 p.m. ET 2/27/13.

Docket Numbers: ER13-894-000.

Applicants: Puget Sound Energy, Inc.

Description: Puget Sound Energy, Inc. submits Compliance Filing In Docket No. ER11-3735 to be effective 1/5/2012.

Filed Date: 2/6/13.

Accession Number: 20130206-5098.

Comments Due: 5 p.m. ET 2/27/13.

Docket Numbers: ER13-895-000.

Applicants: New England Power Pool Participants Committee, ISO New England Inc.

Description: New England Power Pool Participants Committee submits tariff filing per 35.13(a)(2)(iii: Mkt Rule Chges to Modify DA Energy Market Schedule to be effective 12/31/9998.

Filed Date: 2/7/13.

Accession Number: 20130207-5081

Comments Due: 5 p.m. ET 2/28/13.

Docket Numbers: ER13-896-000.

Applicants: Midwest Independent Transmission System Operator, Inc.

Description: Midwest Independent Transmission System Operator, Inc. submits tariff filing per 35.13(a)(2)(iii: 02-07-2013 Sch 7 8 9 CIPCO to be effective 12/31/9998.

Filed Date: 2/7/13.

Accession Number: 20130207-5091.

Comments Due: 5 p.m. ET 2/28/13.

Docket Numbers: ER13-897-000.

Applicants: Louisville Gas and Electric Company.

Description: Louisville Gas and Electric Company submits tariff filing per 35: OATT Order No. 1000. Compliance Filing to be effective 12/31/9998.

Filed Date: 2/7/13.

Accession Number: 20130207-5092.

Comments Due: 5 p.m. ET 2/28/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 07, 2013.
Nathaniel J. Davis, Sr.,
Deputy Secretary.

[FR Doc. 2013-03645 Filed 2-15-13; 8:45 am]

BILLING CODE 6717-01-P